DEPARTMENT OF THE INTERIOR

Bureau of Reclamation

Safety Modifications for Folsom Dam and Appurtenant Structures (Folsom Safety of Dams Project)—Sacramento, El Dorado, and Placer Counties, CA

AGENCY: Bureau of Reclamation, Interior.

ACTION: Notice of change to public scoping meeting dates and locations.

SUMMARY: The notice of intent to prepare an environmental impact statement (EIS) and notice of public scoping meetings was published in the Federal Register on October 6, 2005 (70 FR 58469). The Bureau of Reclamation is changing the public scoping meeting dates from November 1 and 3, 2005, to December 12 and 14, 2005. The scoping meeting locations have also changed.

DATES: The new meeting dates are:

• December 12, 2005, 5 to 7 p.m., Granite Bay Activity Center, Folsom State Recreation Area, CA.

• December 14, 2005, 5:30 to 8 p.m., Folsom, CA.

ADDRESSES: The new locations are:

• Granite Bay Activity Center, Folsom State Recreation Area—there is no address for this location. Directions follow:

From Highway 50

(1) Take Hazel Avenue exit and head north for 2 miles;

(2) Turn right on Madison Avenue (becomes Greenback Lane at the car dealership) and head east a little over 2.5 miles;

(3) Turn left on Folsom-Auburn Road and head north for 5 miles (if you go over the bridge, you went too far);

(4) Turn right on Douglas Boulevard;

(5) Go past the State Park's entrance station kiosk;

(6) Turn right at the 2nd stop sign; and

(7) Turn left immediately (pass through gate to Granite Bay Activity Center).

From Interstate 80

(1) Take Douglas Boulevard exit and head east for 6 miles;

(2) Go past the State Park's entrance station kiosk;

(3) Turn right at the 2nd stop sign; and

(4) Turn left immediately (pass through gate to Granite Bay Activity Center).

• Folsom Community Center, 52 Natoma Street, Folsom, California.

FOR FURTHER INFORMATION CONTACT: Mr. Shawn Oliver, Bureau of Reclamation, 7794 Folsom Dam Road, Folsom, California 95630; telephone number (916) 989-7256; e-mail soliver@mp.usbr.gov.

Dated: November 17, 2005.
Frank Michny,
Regional Environmental Officer, Mid-Pacific Region.

[FR Doc. E5-6757 Filed 12-1-05; 8:45 am]

BILLING CODE 4310-MN-P